DEPARTMENT OF HOUSING AND URBAN DEVELOPMENT

[Docket No. FR-4955-N-02]

Emergency Capital Repair Grants for Multifamily Housing Projects Designated for Occupancy by the Elderly; Supplemental Notice

AGENCY: Office of the Assistant Secretary for Housing-Federal Housing Commissioner, HUD.

ACTION: Notice.

SUMMARY: On December 16, 2004, HUD published a notice announcing the availability of up to $10 million in grant funds to make emergency capital repairs to eligible multifamily projects that are owned by private nonprofit entities and designated for occupancy by elderly tenants. The December 16, 2004, notice provides instructions for owners to request the funding and instructions for the HUD field offices to process the request. This notice supplements the December 16, 2004, notice by providing additional information regarding the information collection requirements contained in that notice and republishes Appendix 1, the Rental Use Agreement.

DATES: Effective Date: This notice does not change the effective date of HUD's December 16, 2004, notice, which was effective upon publication.

FOR FURTHER INFORMATION CONTACT: Aretha Williams, Director, Grant Policy and Management Division, Office of Housing, Room 6142, Department of Housing and Urban Development, 451 Seventh Street, SW., Washington, DC 20410; telephone 202-708-3000 (this is not a toll-free number). Persons with hearing or speech impairments may access this number via TTY by calling the toll-free Federal Information Relay Service at 800-877-8339.

SUPPLEMENTARY INFORMATION: On December 16, 2004 (69 FR 75418), HUD published a notice announcing the availability of up to $10 million in grant funds to make emergency capital repairs to eligible multifamily projects that are owned by private nonprofit entities and designated for occupancy by elderly tenants. The capital repair needs must relate to items that present an immediate threat to the health, safety, and quality of life of the tenants. The intent of these grants is to provide one-time assistance for emergency items that could not be absorbed within the project's operating budget, and where the tenants continued occupancy in the immediate near future would be called into question by a delay in initiating the proposed cure. The notice provides instructions for owners to request the funding and instructions for the HUD field offices to process the request.

This notice supplements the December 16, 2004, notice by providing the following additional information regarding the information collection requirements contained in that notice. Specifically, HUD wishes to advise the public that the information collection requirements contained in the December 16, 2004, notice have been submitted to the Office of Management and Budget (OMB) under the Paperwork Reduction Act of 1995 (44 U.S.C. 3501-3520) and OMB approval is pending. In accordance with the Paperwork Reduction Act, HUD may not conduct or sponsor, and a person is not required to respond to, a collection of information unless the collection displays a currently valid OMB control number. Accordingly, HUD is republishing Appendix 1, the Rental Use Agreement. Once provided, HUD will announce the OMB control number to the public.

Dated: December 22, 2004.
Aaron Santa Anna,
Assistant General Counsel for Regulations.

[FR Doc. 04-28441 Filed 12-28-04; 8:45 am]

BILLING CODE 4210-27-C